DEPARTMENT OF COMMERCE

Foreign-Trade Zones Board

[B-73-2017]

Foreign-Trade Zone (FTZ) 39—Dallas/Fort Worth, Texas; Authorization of Production Activity; Dallas Airmotive, Inc (Aircraft Engine Refurbishment and Disassembly); DFW Airport, Texas

On November 20, 2017, Dallas Airmotive, Inc submitted a notification of proposed production activity to the FTZ Board for its facility within FTZ 39—Site 1, at DFW Airport, Texas.

The notification was processed in accordance with the regulations of the FTZ Board (15 CFR part 400), including notice in the Federal Register inviting public comment (82 FR 56210-56211, November 28, 2017). On March 20, 2018, the applicant was notified of the FTZ Board's decision that no further review of the activity is warranted at this time. The production activity described in the notification was authorized, subject to the FTZ Act and the FTZ Board's regulations, including Section 400.14.

Dated: March 23, 2018.
Andrew McGilvray,
Executive Secretary.

[FR Doc. 2018-06347 Filed 3-28-18; 8:45 am]

BILLING CODE 3510-DS-P